DEPARTMENT OF TRANSPORTATION

Federal Highway Administration

Environmental Impact Statement; Pottawattamie County, IA, Douglas County, NE

AGENCY: Federal Highway Administration (FHWA), DOT.

ACTION: Notice of intent.

SUMMARY: The FHWA is issuing a correction to the notice to the public that a scoping meeting leading to the preparation of an environmental impact statement would be prepared for improving the freeway system for Interstate-80 (I-80), I-29, and I-480 in the City of Council Bluffs, Pottawattamie County, Iowa, and the City of Omaha, Douglas County, Nebraska.

FOR FURTHER INFORMATION CONTACT: Rebecca Hiatt, Operations Engineer, FHWA, 105 6th Street, Ames, IA 50010-6337, (515) 233-7321. James P. Rost, Director, Office of Location and Environment, Iowa Department of Transportation, 800 Lincoln Way, Ames, IA 50010, (515) 239-1798.

SUPPLEMENTARY INFORMATION:

Electronic Access

An electronic copy of this document may be downloaded using a modem and suitable communications software from the Government Printing Office's Electronic Bulletin Board Service at (202) 512-1661. Internet users may reach the Federal Register's home page at: http://www.nara.gov/fedreg and the Government Printing Office's database at: http://www.access.gpo.gov/nara.

Background

The FHWA, in cooperation with the Iowa Department of Transportation, is issuing a correction to the FR Doc. 02-21214 filed 8-20-02. It was announced that a scoping meeting, leading to the preparation of an environmental impact statement for the proposed Council Bluffs Interstate Improvement Project, would be held on September 12, 2002 from 4 to 7 p.m. at the Best Western Crossroads of the Bluffs at 2216 27th Avenue (I-80 and 24th Street), Council Bluffs, Iowa. The meeting has been postponed and will be rescheduled. Public notice of the meeting time and location will be published in local newspapers.

(Catalog of Federal Domestic Assistance Program Number 20.205, Highway Planning and Construction. The regulations implementing Executive Order 12372 regarding intergovernmental consultation of Federal programs and activities apply to this program.)

(Authority: 23 U.S.C. 315; 49 CFR 1.48)

Dated: August 26, 2002.
Bobby W. Blackmon,
Division Administrator.

[FR Doc. 02-22326 Filed 8-30-02; 8:45 am]

BILLING CODE 4910-22-P